DEPARTMENT OF ENERGY

Federal Energy Regulatory Commission

[Project No. 13755-002]

FFP Missouri 12, LLC; Notice of Availability of Environmental Assessment

In accordance with the National Environmental Policy Act of 1969 and the Federal Energy Regulatory Commission's (Commission or FERC) regulations, 18 Code of Federal Regulations part 380, Office of Energy Projects staff has reviewed the application for original license for the Allegheny Lock and Dam 2 Hydroelectric Project (FERC No. 13755-002) on the Allegheny River.

The Allegheny Lock and Dam 2 Hydroelectric Project would be located at an existing lock and dam owned by the U.S. Army Corps of Engineers on the Allegheny River between the boroughs of Sharpsburg and Aspinwall, Pennsylvania, in Allegheny County at river mile 6.7. The project would occupy 3.23 acres of federal land.

Staff has prepared this environmental assessment (EA) that analyzes the potential environmental effects of the project and concludes that constructing and operating the project, with appropriate environmental protection measures, would not constitute a major federal action that would significantly affect the quality of the human environment.

A copy of the EA is available for review at the Commission in the Public Reference Room or may be viewed on the Commission's Web site at www.ferc.gov using the “eLibrary” link. Enter the docket number, excluding the last three digits, in the docket number field to access the document. For assistance, contact FERC Online Support at FERCOnlineSupport@ferc.gov or toll-free at 1-866-208-3676, or for TTY, (202) 502-8659.

You may also register online at http://www.ferc.gov/docs-filing/esubscription.asp to be notified via email of new filings and issuances related to this or other pending projects. For assistance, contact FERC Online Support.

Any comments should be filed within 30 days from the date of this notice. The Commission strongly encourages electronic filing. Please file comments using the Commission's eFiling system at http://www.ferc.gov/docs-filing/efiling.asp. For assistance, please contact FERC Online Support at FERCOnlineSupport@ferc.gov or toll-free at 1-866-208-3676, or for TTY, 202-502-8659. In lieu of electronic filing, please send a paper copy to: Secretary, Federal Energy Regulatory Commission, 888 First Street NE., Washington, DC 20426. The first page of any filing should include: “Allegheny Lock and Dam 2 Hydroelectric Project No. 13755-002.”

For further information, contact Nicholas Ettema at (202) 502-6565 or by email at nicholas.ettema@ferc.gov.

Dated: June 30, 2016.
Kimberly D. Bose,
Secretary.

[FR Doc. 2016-16165 Filed 7-7-16; 8:45 am]

BILLING CODE 6717-01-P